DEPARTMENT OF THE TREASURY

Submission for OMB review; Comment Request

May 16, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 26, 2000 to be assured of consideration.

Internal Revenue Service (IRS)

OMB Number: 1545-0120.

Form Number: IRS Form 1099-G.

Type of Review: Extension.

Title: Certain Government and Qualified State Tuition Program Payments.

Description: Form 1099-G is used by governments (primarily state and local) to report to the IRS (and notify recipients of) certain payments (e.g., unemployment compensation and income tax refunds). IRS uses the information to insure that the income is being properly reported by the recipients on their returns.

Respondents: Federal Government, State, Local or Tribal Government

Estimated Number of Respondents: 2,900.

Estimated Burden Hours Per Respondent: 12 minutes.

Frequency of Response: Annually.

Estimated Total Reporting Burden: 11,149,325 hours.

OMB Number: 1545-0190.

Form Number: IRS Form 4876-A.

Type of Review: Extension.

Title: Election To Be Treated as an Interest Charge DISC.

Description: A domestic corporations and its shareholders must elect to be an interest charge domestic international sales corporation (IC-DISC). Form 4876-A I used to make the election. IRS uses the information to determine if the corporation qualifies to be an IC-DISC.

Respondents: Business or other for-profit.

Estimated Number of Respondents/Recordkeepers: 1,000.

Estimated Burden Hours Per Respondent/Recordkeeper:

Recordkeeping—4 hr., 4 min.

Learning about the law or the form—1 hr., 47 min.

Preparing and sending the form to the IRS—1 hr., 54 min.

Frequency of Response: Other (One-Time Election).

Estimated Total Reporting/Recordkeeping Burden: 5,760 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-13119 Filed 5-24-00; 8:45 am]

BILLING CODE 4830-01-P